DEPARTMENT OF THE INTERIOR

Bureau of Land Management

[UTU75761, UTU76326]

Notice of Proposed Reinstatement of Terminated Oil and Gas Leases, UT

August 25, 2005.

AGENCY: Bureau of Land Management, Interior.

ACTION: Notice.

SUMMARY: In accordance with Title IV of the Federal Oil and Gas Royalty Management Act (Pub. L. 97-451), Eclipse Exploration Corporation filed a petition for reinstatement of oil and gas leases UTU75761 and UTU76326 for lands in Grand County, Utah, and it was accompanied by all required rentals and royalties accruing from April 1, 2003 and October 1, 2003, respectively, the dates of termination.

FOR FURTHER INFORMATION CONTACT: David H. Murphy, Acting Chief, Branch of Fluid Minerals at (801) 539-4070.

SUPPLEMENTARY INFORMATION: The Lessee has agreed to new lease terms for rentals and royalties at rates of $5 per acre and 16⅔ percent, respectively. The $500 administrative fee for the lease has been paid and the lessee has reimbursed the Bureau of Land Management for the cost of publishing this notice.

Having met all the requirements for reinstatement of the lease as set out in as amended by Section 371(a) of the Energy Policy Act of 2005, Title III, the Bureau of Land Management is proposing to reinstate lease UTU75761 effective April 1, 2003, and lease UTU76326 effective October 1, 2003, subject to the original terms and conditions of the leases and the increased rental and royalty rates cited above.

David H. Murphy,
Acting Chief, Branch of Fluid Minerals.

[FR Doc. 05-20163 Filed 10-6-05; 8:45 am]

BILLING CODE 4310-DK-P